ENVIRONMENTAL PROTECTION AGENCY

[FRL-7517-7]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 15-17, 2003 at the Hotel Washington, Washington, DC. The CHPAC was created to advise the Environmental Protection Agency on science, regulations, and other issues relating to children's environmental health.

DATES: Tuesday, July 15 the Science/Regulatory Work Group will meet; plenary sessions will take place Wednesday, July 16 and Thursday, July 17.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science/Regulatory Work Group will meet Tuesday, July 15 from 9 a.m. to 5 p.m. The plenary CHPAC will meet on Wednesday, July 16 from 9 a.m. to 5 p.m., with a public comment period at 4:45 p.m., and on Thursday, July 17 from 9 a.m. to 12 p.m.

The plenary session will open with introductions and a review of the agenda and objectives for the meeting. Agenda items include highlights of the Office of Children's Health Protection (OCHP) activities and reports from the Science and Regulatory Work Group. Other potential agenda items include strategic review of the progress on children's environmental health issues since the CHPAC was formed in 1997, and a panel presentation on the Voluntary Children's Chemical Evaluation Program (VCCEP).

Dated: June 18, 2003.
Joanne K. Rodman,
Designated Federal Official.

[FR Doc. 03-15902 Filed 6-23-03; 8:45 am]

BILLING CODE 6560-50-P